CONSUMER PRODUCT SAFETY COMMISSION

Notification of Request for Reinstatement of Approval of Information Collection Requirements—Safety Standard for Bicycle Helmets

AGENCY: Consumer Product Safety Commission.

ACTION: Notice.

SUMMARY: In the Federal Register of March 21, 2001 (66 FR 15847), the Consumer Product Safety Commission published a notice in accordance with provisions of the Paperwork Reduction Act of 1995 (44 U.S.C. chapter 35) to announce the agency's intention to seek an extension of approval of the collection of information in the safety standard for bicycle helmets (16 CFR part 1203). These regulations establish testing and recordkeeping requirements for manufacturers and importers of bicycle helmets subject to the standard. One comment, discussed below, was received from Troxel Cycling and Fitness, LLC (“Troxel”). The Commission now announces that it has submitted to the Office of Management and Budget a request for reinstatement of approval of that collection of information without change for a period of three years from the date of approval.

SUPPLEMENTARY INFORMATION: In 1994, Congress passed the “Child Safety Protection Act,” which, among other things, included the “Children's Bicycle Helmet Safety Act of 1994” (Pub. L. 103-267, 108 Stat. 726). This law directed the Commission to issue a final standard applicable to bicycle helmets that would replace several existing voluntary standards with a single uniform standard that would include provisions to protect against the risk of helmets coming off the heads of bicycle riders, address the risk of injury to children, and cover other issues as appropriate. The Commission issued the final bicycle helmet standard in 1998. It is codified at 16 CFR part 1203.

The standard requires all bicycle helmets manufactured after March 10, 1999, to meet impact-attenuation and other requirements. The standard also contains testing and recordkeeping requirements to ensure that bicycle helmets meet the standard's requirements. Certification regulations implementing the standard require manufacturers, importers, and private labelers of bicycle helmets subject to the standard to (1) perform tests to demonstrate that those products meet the requirements of the standard, (2) maintain records of those tests, and (3) affix permanent labels to the helmets stating that the helmet complies with the applicable standard. The certification regulations are codified at 16 CFR part 1203, Subpart B.

The Commission uses the information compiled and maintained by manufacturers, importers, and private labelers of bicycle helmets subject to the standard to help protect the public from risks of injury or death due to head injury associated with bicycle riding. More specifically, this information helps the Commission determine whether bicycle helmets subject to the standard comply with all applicable requirements. The Commission also uses this information to obtain corrective actions if bicycle helmets fail to comply with the standard in a manner that creates a substantial risk of injury to the public.

Troxel comments that it generally supports the standard and the need for the Commission to enforce the standard. Troxel's specific comments and CPSC's responses are discussed below.

(1) First, Troxel comments that the Commission's estimate in the first Federal Register notice of an average annual burden of 1000 hours per manufacturer or importer may be too high. This would be because firms with only one or two models would need to test less, and firms that have been doing some level of testing to a voluntary standard would not have a large amount of additional work to test to the CPSC standard.

In response to this comment CPSC points out that the estimate of burden hours is based on an estimate of the total burden to the industry. The Commission recognizes that some firms may have a larger burden and some would have a smaller burden.

(2) Troxel comments that a full annual series of tests should not be required unless there is a significant change in the design or manufacture of the product.

In response, CPSC notes that testing for certification under the regulation is done by production lot; there is no requirement for annual testing. Manufacturers and importers may define their own reasonable testing programs by production lots. It is their responsibility to determine how the production lot is defined. Sample bicycle helmets from each production lot are tested to all the requirements of the standard prior to the production lot being certified as complying. Whenever there is a change in parts, suppliers of parts, or production methods, and the change could affect the ability of the helmet to comply with the standard, the manufacturer must establish a new production lot for testing.

(3) Troxel comments that only electronic records of the test should be required, and not paper copies.

The records required by the certification requirements of the regulation may be in any appropriate form or format that clearly provides the required information. Certification test results may be kept on paper, microfiche, computer disk, or other retrievable media. The records can be made available to the Commission upon request on paper, or via electronic mail, in the same format as paper copies.

4. Troxel contends that “bicycle helmets are manufactured and advertised as single-impact products. Once a helmet receives a significant blow, it should be replaced. Despite this, the standard calls for four impacts to each of four test helmets. No matter how carefully the later impact locations are selected, the early impacts do limit the capabilities of the helmet during later impacts.” Troxel asserts that most helmets that are involved in accidents receive either a single impact or two impacts. Almost never are there three or more impacts to the helmet in any accident. Troxel suggests that the number of impacts per helmet be reduced to two, and that the number of test helmets be doubled so that a set of test helmets receives the same number of total impacts.

The CPSC bicycle helmet standard was initiated by the Children's bicycle Helmet Safety Act of 1994. (Pub. L. 103-267, 108 Stat. 726.) This Act directed the Commission to review existing voluntary standards for bicycle helmets and, based on that review, establish a CPSC mandatory standard. The voluntary standards at the time, and every previous and subsequent edition of these standards, specify four impacts per helmet. The requirement for four impacts during testing assures a level of performance for the helmet design and is not intended to mirror actual use conditions. During development of this regulation, the details of the testing procedures were examined thoroughly and the interested parties, including Troxel, had the opportunity to comment on the tests during the comment period. In response to concerns that the curbstone impact test was severe and did affect the results of subsequent impacts, that test is performed on a separate helmet, but the other impacts are performed on a single sample. The locations of the four impacts are specified to minimize the effects of prior impacts on subsequent ones, and testing during the development of the standard confirmed this. To perform the four impacts on two samples instead of one would constitute a late change in the scope of the testing that was defined and confirmed during development of the regulation. Four impacts with the required separation provide an economical as well as practical means of evaluating the safety of today's helmets.

Studies have shown that bicycle helmets that conform to one or more of the voluntary standards are very effective in reducing the chance of serious head and brain injuries. The Harborview Injury Prevention and Research Center conducted two studies that are often cited. Harborview reported that a bike helmet that conforms to a voluntary standard can reduce the risk of head injury by up to 85 percent and reduce the risk of brain injury by up to 88 percent. A reduction in the number of impacts per helmet from four to two would be a significant deviation from the test procedure that has been in use for bicycle helmets for over 15 years.

Additional Information About the Request for Reinstatement of Approval of Information Collection Requirements

Agency address: Consumer Product Safety Commission, Washington, DC 20207.

Title of information collection: Safety Standard for Bicycle Helmets (16 CFR Part 1203).

Type of request: Reinstatement of approval.

General description of respondents: Manufacturers, importers, and private labelers of bicycle helmets.

Estimated number of respondents: 30.

Estimated average number of hours per respondent: 1,000 hours per year.

Estimated cost of collection for all respondents: Unknown.

Comments: Comments on this request for reinstatement of approval of information collection requirements should be submitted by August 27, 2001 to (1) The Office of Information and Regulatory Affairs, Attn: OMB Desk Officer for CPSC, Office of Management and Budget, Washington DC 20503; telephone: (202) 395-7340, and (2) the Office of the Secretary, Consumer Product Safety Commission, Washington, DC 20207. Written comments may also be sent to the Office of the Secretary by facsimile at (301) 504-0127 or by e-mail at cpsc-os@cpsc.gov. Copies of this request for extension of the information collection requirements and supporting documentation are available from Linda Glatz, management and program analyst, Office of Planning and Evaluation, Consumer Product Safety Commission, Washington, DC 20207; telephone: (301) 504-0416, extension 2226, or by e-mail to lglatz@cpsc.gov.

Dated: July 23, 2001.
Todd A. Stevenson,
Acting Secretary, Consumer Product Safety Commission.

[FR Doc. 01-18690 Filed 7-26-01; 8:45 am]

BILLING CODE 6355-01-P